DEPARTMENT OF ENERGY

Federal Energy Regulatory Commission

Combined Notice of Filings

Take notice that the Commission has received the following Natural Gas Pipeline Rate and Refund Report filings:

Filings Instituting Proceedings

Docket Numbers: RP19-300-000.

Applicants: Eastern Shore Natural Gas Company.

Description: § 4(d) Rate Filing: Negotiated Rate—DCRC to be effective 1/1/2019.

Filed Date: 11/19/18.

Accession Number: 20181119-5182.

Comments Due: 5 p.m. ET 12/3/18.

Docket Numbers: RP19-301-000.

Applicants: Western Gas Interstate Company.

Description: eTariff filing per 1430: Western Gas Interstate Company Extension of Time Request Filing FERC Form 501-G.

Filed Date: 11/20/18.

Accession Number: 20181120-5000.

Comments Due: 5 p.m. ET 11/26/18.

Docket Numbers: RP19-302-000.

Applicants: Algonquin Gas Transmission, LLC.

Description: § 4(d) Rate Filing: Negotiated rate—Amended Boston Gas 510807 eff 1-1-2019 to be effective1/1/2019.

Filed Date: 11/20/18.

Accession Number: 20181120-5034.

Comments Due: 5 p.m. ET 12/3/18.

Docket Numbers: RP19-303-000.

Applicants: Southern Star Central Gas Pipeline, Inc.

Description: Compliance filing Annual Cash-Out Activity Report 2018.

Filed Date: 11/20/18.

Accession Number: 20181120-5036.

Comments Due: 5 p.m. ET 12/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2018.
Nathaniel J. Davis, Sr.,
Deputy Secretary.

[FR Doc. 2018-25773 Filed 11-26-18; 8:45 am]

BILLING CODE 6717-01-P